ENVIRONMENTAL PROTECTION AGENCY

40 CFR Part 180

[EPA-HQ-OPP-2007-0099; FRL-8870-8]

Flubendiamide; Pesticide Tolerances; Technical Amendment

AGENCY: Environmental Protection Agency (EPA).

ACTION: Final rule; technical amendment.

SUMMARY: This document is being issued to correctly revise tolerance levels, for the pesticide, flubendiamide in or on the meat and meat byproducts of cattle, goat, hog, horse, and sheep. The tolerance levels were inadvertently transcribed incorrectly in a final rule printed in the Federal Register on March 23, 2011.

DATES: This final rule is effective September 7, 2011.

ADDRESSES: EPA has established a docket for this action under docket identification (ID) number EPA-HQ-OPP-2007-0099. All documents in the docket are listed in the docket index available in http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Carmen Rodia, Registration Division (7504P), Office of Pesticide Programs, Environmental Protection Agency, 1200 Pennsylvania Avenue, NW., Washington, DC 20460-0001; telephone number: (703) 306-0327; fax number: (703) 308-0029; e-mail address: rodia.carmen@epa.gov.

SUPPLEMENTARY INFORMATION:

I. Does this action apply to me?

The Agency included in the final rule a list of those who may be potentially affected by this action. If you have questions regarding the applicability of this action to a particular entity, consult the person listed under FOR FURTHER INFORMATION CONTACT.

II. What does this technical amendment do?

In the Federal Register of March 23, 2011 (75 FR 16301) (FRL-8863-8), EPA issued a final rule establishing new tolerances and revising existing tolerances for residues of flubendiamide (40 CFR 180.639) on certain food and livestock commodities. Inadvertently, a few of the tolerance levels were transcribed incorrectly, and consequently, 40 CFR 180.639(a)(2) provides an incorrect tolerance value for the established tolerances for cattle, meat (0.60 ppm); cattle, meat byproducts (0.08 ppm); goat, meat (0.60 ppm); goat, meat byproducts (0.08 ppm); hog, meat (0.15 ppm); hog, meat byproducts (0.03 ppm); horse, meat (0.60 ppm); horse, meat byproducts (0.08 ppm); sheep, meat (0.60 ppm); and sheep, meat byproducts (0.08 ppm). As supported by recalculated beef and dairy cattle, swine, and poultry dietary burdens, and re-evaluation of previously submitted animal feeding studies, these tolerance values should be revised to 0.08 ppm; 0.60 ppm; 0.08 ppm; 0.60 ppm; 0.03 ppm; 0.15 ppm; 0.08 ppm; 0.60 ppm; 0.08 ppm; and 0.60 ppm, respectively. This document is being issued to correct the tolerance values tolerances levels that were entered incorrectly.

III. Why is this amendment issued as a final rule?

Section 553 of the Administrative Procedure Act (APA), 5 U.S.C. 553(b)(3)(B), provides that, when an Agency for good cause finds that notice and public procedure are impracticable, unnecessary or contrary to the public interest, the Agency may issue a final rule without providing notice and an opportunity for public comment. EPA has determined that there is good cause for making this technical amendment final without prior proposal and opportunity for comment, because this technical amendment revises a few incorrectly transcribed tolerance levels and does not otherwise change the original requirements of the final rule. EPA finds that this constitutes good cause under 5 U.S.C. 553(b)(3)(B).

IV. Do any of the statutory and Executive Order reviews apply to this action?

This technical amendment revises a number of incorrect tolerance levels and does not otherwise change the original requirements of the final rule. As a technical amendment, this action is not subject to the statutory and Executive Order review requirements. For information about the statutory and Executive Order review requirements as they related to the final rule, see Unit VI. in the Federal Register of March 23, 2011 (76 FR 16301) (FRL-8863-8).

V. Congressional Review Act

The Congressional Review Act, 5 U.S.C. 801 et seq., generally provides that before a rule may take effect, the Agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: August 28, 2011.
Lois Rossi,
Director, Registration Division, Office of Pesticide Programs.

Therefore, 40 CFR part 180 is corrected as follows:

PART 180—[AMENDED]

1. The authority citation for part 180 continues to read as follows:

Authority: 21 U.S.C. 321(q), 346a and 371.

2. Section 180.639(a)(2) is amended by revising the entries for cattle, meat; cattle, meat byproducts; goat, meat; goat, meat byproducts; hog, meat; hog, meat byproducts; horse, meat; horse, meat byproducts; sheep, meat; and sheep, meat byproducts to read as follows:

§ 180.639 Flubendiamide; tolerances for residues.

(a) * * *

(2) * * *

Commodity | Parts per million
* * * * * * *
Cattle, meat | 0.08
Cattle, meat byproducts | 0.60
* * * * * * *
Goat, meat | 0.08
Goat, meat byproducts | 0.60
* * * * * * *
Hog, meat | 0.03
Hog, meat byproducts | 0.15
* * * * * * *
Horse, meat | 0.08
Horse, meat byproducts | 0.60
* * * * * * *
Sheep, meat | 0.08
Sheep, meat byproducts | 0.60
* * * * * * *

* * * * *

[FR Doc. 2011-22866 Filed 9-6-11; 8:45 am]

BILLING CODE 6560-50-P